DEPARTMENT OF COMMERCE

International Trade Administration

[A-475-818; A-489-805]

Certain Pasta From Italy and Turkey; Final Results of Expedited Third Sunset Reviews of the Antidumping Duty Orders

AGENCY: Import Administration, International Trade Administration, Department of Commerce.

DATES: Effective Date: January 11, 2013.

SUMMARY: On September 4, 2012, the Department of Commerce (“the Department”) initiated five-year (“sunset”) reviews of the antidumping duty orders on certain pasta (“pasta”) from Italy and Turkey. As a result of these reviews, the Department finds that revocation of these antidumping orders would be likely to lead to continuation or recurrence of dumping at the levels indicated in the “Final Results of Reviews” section of this notice.

FOR FURTHER INFORMATION CONTACT: James Terpstra, AD/CVD Operations, Office 8, Import Administration, International Trade Administration, U.S. Department of Commerce, 14th Street and Constitution Avenue NW., Washington, DC 20230; telephone: (202) 482-3965.

SUPPLEMENTARY INFORMATION:

Background

The Department published antidumping duty orders on pasta from Italy and Turkey in July 1996.¹ On September 4, 2012, the Department initiated sunset reviews of those orders pursuant to section 751(c) of the Tariff Act of 1930, as amended (“the Act”).² On September 20, 2012, the Department received notices of intent to participate in these sunset reviews on behalf of New World Pasta Company, Dakota Growers Pasta Company, A. Zerga's Sons, Inc., Philadelphia Macaroni Company, and American Italian Pasta Company (collectively, “the domestic interested parties”), within the applicable deadline specified in 19 CFR 351.218(d)(1)(i). The domestic interested parties claimed interested party status under section 771(9)(C) of the Act, as producers of certain pasta in the United States.

¹ See Notice of Antidumping Duty Order and Amended Final Determination of Sales at Less Than Fair Value: Certain Pasta From Italy, 61 FR 38547 (July 24, 1996) (“Italian Order”), and Notice of Antidumping Duty Order and Amended Final Determination of Sales at Less Than Fair Value: Certain Pasta From Turkey, 61 FR 38545 (July 24, 1996) (“Turkish Order”).

² See Notice of Initiation of Five-Year (Sunset) Reviews, 71 FR 53867 (September 4, 2012).

On October 4, 2012, the Department received an adequate substantive response regarding Turkey from the domestic interested parties within the 30-day deadline specified in 19 CFR 351.218(d)(3)(i). We received an inadequate substantive response from respondent interested parties.³ On October 9, 2012, domestic interested parties filed a rebuttal to the GOT's submission.

³ Only the Government of Turkey (“GOT”) submitted a response. We did not receive a response from any Turkish producers or exporters of pasta, as provided in 19 CFR 351.218(e)(1)(ii)(A).

On September 25, 2012, the Government of Italy (“GOI”) requested an extension of time to submit a substantive response. On September 27, 2012, the Department granted an extension until October 11, 2012; however, the GOI did not submit a response. On October 11, 2012, the Department received adequate substantive responses regarding Italy from the domestic interested parties, within the extended deadline specified in the Department's September 27, 2012, letter.

Pursuant to 19 CFR 351.218(e)(1)(ii)(C), because the Department received no substantive responses from foreign producers in either review, the Department is conducting expedited, 120-day, sunset reviews of these antidumping duty orders.

Scope of the Orders

Italy (A-475-818)

The merchandise subject to the order is pasta. The product is currently classified under items 1901.90.90.95 and 1902.19.20 of the Harmonized Tariff Schedule of the United States (“HTSUS”). Although the HTSUS numbers are provided for convenience and customs purposes, the written product description, available in Italian Order, remains dispositive.⁴

⁴ On August 14, 2009, the Department issued its final results of a changed circumstance review and revoked the order, in part, with regard to gluten-free pasta effective July 1, 2008. Certain Pasta from Italy: Notice of Final Results of Antidumping Duty Changed Circumstances Review and Revocation, in Part, 74 FR 41120 (August 14, 2009).

Turkey (A-489-805)

The merchandise subject to the order is pasta. The product is currently classified under items 1902.19.20 of the HTSUS. Although the HTSUS numbers are provided for convenience and customs purposes, the written product description, available in Turkish Order, remains dispositive.

Analysis of Comments Received

All issues raised by parties to these sunset reviews are addressed in the Issues and Decision Memorandum (“Decision Memorandum”) from Christian Marsh, Deputy Assistant Secretary for Antidumping and Countervailing Duty Operations, to Paul Piquado, Assistant Secretary for Import Administration, dated concurrently with this notice, which is hereby adopted by this notice. The issues discussed in the Decision Memorandum include the likelihood of continuation or recurrence of dumping and the magnitude of the margins likely to prevail were the orders revoked. Parties can find a complete discussion of all issues raised in these reviews and the corresponding recommendations in this public memorandum, which is on file electronically via Import Administration's Antidumping and Countervailing Duty Centralized Electronic Service System (“IA ACCESS”). IA ACCESS is available to registered users at http://iaaccess.trade.gov and in the Central Records Unit in room 7046 of the main Commerce building. In addition, a complete version of the Decision Memorandum may be accessed directly on the Web at http://ia.ita.doc.gov/frn, under the heading “January 2013.” The paper copy and electronic versions of the Decision Memorandum are identical in content.

Final Results of Reviews

We determine that revocation of the antidumping duty orders on pasta from Italy and Turkey would likely lead to continuation or recurrence of dumping at the following percentage weighted-average margins:

⁵ The cash deposit rate for All Others was modified to account for export subsidies.

Italy
Manufacturer/producer/ exporter | Weighted- average margin (percent)
Arrighi S.p.A. Industrie Alimentari and affiliate Italpasta S.p.A. | 20.84
La Molisana Industrie Alimentari S.p.A. | 14.78
Liguori Pastificio Dal S.p.A. | 12.14
Pastificio Fratelli Pagani S.p.A. | 18.23
All Others | ⁵ 16.51

Turkey
Manufacturer/producer/ exporter | Weighted- average margin (percent)
Filiz Gida Sanyi ve Ticaret A.S. | 63.29
Maktas Makarnicilik ve Ticaret T.A.S. (“Maktas”) | ⁶ 60.87
All Others | ⁷ 60.87

This notice serves as the only reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

⁶ Marsan Gida Sanayi ve Ticret A.S. was found to be the successor-in-interest to Gidasa Sabanci Gida Sanayi ve Ticaret A.S. (“Gidasa”) in 2009; Gidasa was found to be the successor-in-interest to Maktas in 2003. See Decision Memorandum at 5.

⁷ The cash deposit rate for Maktas and All Others were modified to account for export subsidies.

These sunset reviews and notice are in accordance with sections 751(c), 752, and 777(i)(1) of the Act.

Dated: January 4, 2012.
Paul Piquado,
Assistant Secretary for Import Administration.

[FR Doc. 2013-00454 Filed 1-10-13; 8:45 am]

BILLING CODE 3510-DS-P